DEPARTMENT OF THE INTERIOR

National Park Service

Notice of Intent to Repatriate Cultural Items: U.S. Department of the Interior, National Park Service, Salinas Pueblo Missions National Monument, Mountainair, NM

AGENCY: National Park Service, Interior.

ACTION: Notice.

Notice is here given in accordance with the Native American Graves Protection and Repatriation Act (NAGPRA), 25 U.S.C. 3005, of the intent to repatriate cultural items in the possession of U.S. Department of the Interior, National Park Service, Salinas Pueblo Missions National Monument, Mountainair, NM, that meet the definition of “unassociated funerary objects” under 25 U.S.C. 3001.

This notice is published as part of the National Park Service's administrative responsibilities under NAGPRA, 25 U.S.C. 3003 (d)(3). The determinations within this notice are the sole responsibility of the superintendent, Salinas Pueblo Missions National Monument.

The 349 items are 1 antler artifact, 1 axe, 2 awls, 89 individual and 1 box of beads, 1 biface, 2 faunal bone artifacts, 7 individual and 10 bags of unworked faunal bone, 4 ceramic bowls, 3 pieces of charcoal, 12 concretions, 1 segment of cordage, 58 bags of corn kernels, 1 corn plant, 8 corn cobs, 25 crystals, 1 stone disk, 1 drill, 13 effigies, 1 fetish, 1 ceramic jar, 1 mano, 15 pendants, 5 pieces and 3 bags of pigment, 5 pipes, 1 pitcher, 13 polishing stones, 7 projectile points, 1 shaft straightener, 2 pieces of worked and 1 piece of unworked shell, 5 pieces and 8 bags of sherds, 16 unworked stones, 14 textile pieces, 1 tinkler, and 8 tubes.

In 1941, one ceramic bowl was recovered during legally authorized excavations conducted by Washington & Jefferson College at site LA 83, named Pueblo Pardo Ruin or Grey Town, as part of a field school program. Pueblo Pardo Ruin is located in Socorro County, NM, and, based on material culture and architectural features, dates to the Pueblo III and Pueblo IV periods (A.D. 1300 to 1630). Due to the proximity (3 miles south) and contemporaneous habitation of Pueblo Pardo Ruin with the pueblos of the Gran Quivira area, the college donated the ceramic bowl to the monument in 1942. Records indicate that the bowl was recovered from a burial and that the human remains were not collected.

Between 1965 and 1967, the other 348 cultural items described above were recovered during legally authorized National Park Service excavations at Mound 7 of the Pueblo de Las Humanas complex in Torrance and Soccoro Counties, NM, a site located within the boundaries of the monument's Gran Quivira unit. Records indicate that the objects were recovered from burials (primarily cremations) but that the associated human remains either were not collected or were not retained. Based on material culture and architectural features, Mound 7 dates from the Pueblo IV period (A.D. 1300 to 1672).

Salinas Pueblo Missions National Monument professional staff have reviewed the archeological and ethnographic literature and a cultural affiliation study by the National Park Service, and have consulted with the Caddo Nation of Oklahoma; Hopi Tribe of Arizona; Kiowa Indian Tribe of Oklahoma; Mescalero Apache Tribe of the Mescalero Reservation, New Mexico; Pueblo of Acoma, New Mexico; Pueblo of Isleta, New Mexico; Pueblo of Jemez, New Mexico; Pueblo of Sandia, New Mexico; Pueblo of Santo Domingo, New Mexico; Pueblo of Taos, New Mexico; White Mountain Apache Tribe of the Fort Apache Reservation, Arizona; Wichita and Affiliated Tribes (Wichita, Keechi, Waco & Tawakonie), Oklahoma; Ysleta del Sur Pueblo of Texas; Zuni Tribe of the Zuni Reservation, New Mexico; and Piro-Manso-Tiwa Indian Tribe (a nonfederally recognized Indian group). All of the New Mexico tribes and pueblos were invited to participate in consultation. The Navajo Nation, Arizona, New Mexico & Utah requested all of the mailings but did not participate in the consultation meetings. As part of the consultation process, the Hopi Tribe of Arizona and the Zuni Tribe of the Zuni Reservation, New Mexico submitted cultural affiliation statements claiming ancestry with the Mogollon and Anasazi cultures.

The prehistoric Pueblo culture of the Gran Quivira area during the Basketmaker III through the Spanish Contact periods (A.D. 500 to 1672) has been termed Jumano by anthropologists. Located in what is now central New Mexico, the Jumano culture was similar to the Rio Grande Anasazi culture as evidenced by the presence of masonry pueblos, ceremonial kivas, black and white pottery, and agriculture. The pueblo-dwelling Jumano were also influenced by the Mogollon culture as reflected in the use of brown utility ware pottery and Mogollon settlement patterns. Just prior to the Pueblo Revolt of 1680, the region, including the Jumano Pueblos of Las Humanas and Pueblo Pardo, was abandoned due to drought, famine, and increased raiding by Plains and Athabascan groups. Historic Spanish records document the depopulation of the area and the movement of the people to the pueblos of the Rio Grande valley and to the El Paso-Juarez area.

Officials of Salinas Pueblo Missions National Monument have determined that, pursuant to 25 U.S.C. 3001 (3)(B), the cultural items are reasonably believed to have been placed with or near individual human remains at the time of death or later as part of the death rite or ceremony and are believed, by a preponderance of the evidence, to have been removed from a specific burial site of Native American individuals. Officials of Salinas Pueblo Missions National Monument also have determined that, pursuant to 25 U.S.C. 3001 (2), there is a relationship of shared group identity that can be reasonably traced between the 349 unassociated funerary objects and the Hopi Tribe of Arizona; Pueblo of Acoma, New Mexico; Pueblo of Isleta, New Mexico; Pueblo of Jemez, New Mexico; Pueblo of Sandia, New Mexico; Pueblo of Santo Domingo, New Mexico; Pueblo of Taos, New Mexico; Ysleta del Sur Pueblo of Texas; and Zuni Tribe of the Zuni Reservation, New Mexico. In addition, officials of Salinas Pueblo Missions National Monument have determined that a cultural relationship exists between the unassociated funerary objects and the Piro-Manso-Tiwa Indian Tribe (a nonfederally recognized Indian group).

Representatives of any other Indian tribe that believes itself to be culturally affiliated with the unassociated funerary objects should contact Glenn M. Fulfer, Superintendent, Salinas Pueblo Missions National Monument, P.O. Box 517, Mountainair, NM 87036, telephone (505) 847-2585, extension 25, before July 7, 2004. Repatriation of the unassociated funerary objects to the Hopi Tribe of Arizona; Pueblo of Acoma, New Mexico; Pueblo of Isleta, New Mexico; Pueblo of Jemez, New Mexico; Pueblo of Sandia, New Mexico; Pueblo of Santo Domingo, New Mexico; Pueblo of Taos, New Mexico; Ysleta del Sur Pueblo of Texas; and Zuni Tribe of the Zuni Reservation, New Mexico may proceed after that date if no additional claimants come forward.

Salinas Pueblo Missions National Monument is responsible for notifying the Caddo Nation of Oklahoma; Hopi Tribe of Arizona; Kiowa Indian Tribe of Oklahoma; Mescalero Apache Tribe of the Mescalero Reservation, New Mexico; Pueblo of Acoma, New Mexico; Pueblo of Isleta, New Mexico; Pueblo of Jemez, New Mexico; Pueblo of Sandia, New Mexico; Pueblo of Santo Domingo, New Mexico; Pueblo of Taos, New Mexico; White Mountain Apache Tribe of the Fort Apache Reservation, Arizona; Wichita and Affiliated Tribes (Wichita, Keechi, Waco & Tawakonie), Oklahoma; Ysleta del Sur Pueblo of Texas; Zuni Tribe of the Zuni Reservation, New Mexico; and Piro-Manso-Tiwa Indian Tribe (a nonfederally recognized Indian group) that this notice has been published.

Date: April 2, 2004.
John Robbins,
Assistant Director, Cultural Resources.

[FR Doc. 04-12663 Filed 6-4-04; 8:45 am]

BILLING CODE 4310-50-S